SECURITIES AND EXCHANGE COMMISSION

Proposed Collection; Comment Request

Upon Written Request, Copies Available From: US Securities and Exchange Commission, Office of Investor Education and Advocacy, Washington, DC 20549-0213.

Extension:

Rule 17f-2(e); OMB Control No. 3235-0031; SEC File No. 270-37.

Notice is hereby given that pursuant to the Paperwork Reduction Act of 1995 (44 U.S.C. 3501, et seq.), the Securities and Exchange Commission (“Commission”) is soliciting comments on the collection of information summarized below. The Commission plans to submit this existing collection of information to the Office of Management and Budget for extension and approval.

• Rule 17f-2(e) (17 CFR 240.17f-2(e))—Registration of Fiduciaries

On November 18, 1982, effective November 22, 1982 (see 47 FR 54060, December 1, 1982), the Commission adopted Rule 17f-2(e) under the Securities Exchange Act of 1934 (15 U.S.C. 78a, et seq.) to require members of national securities exchanges, brokers, dealers, registered transfer agents, registered clearing agencies that claim exemption from the fingerprinting requirements of Rule 17f-2 to prepare and maintain a statement entitled “Notice Pursuant to Rule 17f-2,” supporting their claimed exemptions. This requirement assists the Commission and other regulatory agencies in ensuring compliance with Rule 17f-2. Notices prepared pursuant to Rule 17f-2(e) must be maintained for as long as the covered entity claims an exemption from the fingerprinting requirements of Rule 17f-2. The statement is necessary to ensure that the Commission and the public have adequate information about the entity claiming the exemption.

There are approximately 75 respondents per year that requires an aggregate total of 38 hours to comply with this rule. Each respondent makes an estimated 1 annual response. Each response takes approximately 30 minutes to complete. Thus, the total compliance burden per year is approximately 38 burden hours. The approximate cost per hour is $20, resulting in a total cost of compliance for the respondent of approximately $760 (i.e., 38 hours × $20).

Written comments are invited on: (a) Whether the proposed collection of information is necessary for the proper performance of the functions of the Commission, including whether the information shall have practical utility; (b) the accuracy of the Commission's estimates of the burden of the proposed collection of information; (c) ways to enhance the quality, utility, and clarity of the information to be collected; and (d) ways to minimize the burden of the collection of information on respondents, including through the use of automated collection techniques or other forms of information technology. Consideration will be given to comments and suggestions submitted in writing within 60 days of this publication.

Comments should be directed to: R. Corey Booth, Director/Chief Information Officer, Securities and Exchange Commission, C/O Shirley Martinson, 6432 General Green Way, Alexandria, Virginia 22312 or send an e-mail to: PRA_Mailbox@sec.gov. Comments must be submitted within 60 days of this notice.

Dated: February 19, 2008.
Florence E. Harmon,
Deputy Secretary.

[FR Doc. E8-3667 Filed 2-26-08; 8:45 am]

BILLING CODE 8011-01-P